SMALL BUSINESS ADMINISTRATION

[Declaration of Disaster #3564]

State of Ohio (Amendment #1)

In accordance with a notice received from the Department of Homeland Security—Federal Emergency Management Agency, effective January 30, 2004, the above numbered declaration is hereby amended to establish the incident period for this disaster as beginning January 3, 2004 and continuing through January 30, 2004.

All other information remains the same, i.e., the deadline for filing applications for physical damage is March 26, 2004, and for economic injury the deadline is October 26, 2004.

(Catalog of Federal Domestic Assistance Program Nos. 59002 and 59008).
Dated: February 5, 2004.
Herbert L. Mitchell,
Associate Administrator for Disaster Assistance.

[FR Doc. 04-3034 Filed 2-11-04; 8:45 am]

BILLING CODE 8025-01-P